DEPARTMENT OF EDUCATION

[Docket No.: ED-2015-ICCD-0124]

Agency Information Collection Activities; Submission to the Office of Management and Budget for Review and Approval; Comment Request; Integrated Postsecondary Education Data System (IPEDS) 2015-2016 Pension Liabilities Update

AGENCY: National Center for Education Statistics (NCES), Department of Education (ED).

ACTION: Notice.

SUMMARY: In accordance with the Paperwork Reduction Act of 1995 (44 U.S.C. chapter 3501 et seq.), ED is proposing an extension of an existing information collection.

DATES: Interested persons are invited to submit comments on or before February 11, 2016.

ADDRESSES: To access and review all the documents related to the information collection listed in this notice, please use http://www.regulations.gov by searching the Docket ID number ED-2015-ICCD-0124. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For specific questions related to collection activities, please contact Kashka Kubzdela, 202-502-7411.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Integrated Postsecondary Education Data System (IPEDS) 2015-2016 Pension Liabilities Update.

OMB Control Number: 1850-0582.

Type of Review: A revision of an existing information collection.

Respondents/Affected Public: Postsecondary Institution.

Total Estimated Number of Annual Responses: 77,600.

Total Estimated Number of Annual Burden Hours: 1,050,870.

Abstract: The Integrated Postsecondary Education Data System (IPEDS) is a web-based data collection system designed to collect basic data from all postsecondary institutions in the United States and the other jurisdictions. IPEDS enables The National Center of Education Statistics (NCES) to report on key dimensions of postsecondary education such as enrollments, degrees and other awards earned, tuition and fees, average net price, student financial aid, graduation rates, revenues and expenditures, faculty salaries, and staff employed. The IPEDS web-based data collection system was implemented in 2000-01, and it collects basic data from approximately 7,500 postsecondary institutions in the United States and the other jurisdictions that are eligible to participate in title IV Federal financial aid programs. All title IV institutions are required to respond to IPEDS (section 490 of the Higher Education Amendments of 1992; Public Law 102-325). IPEDS allows other (non-title IV) institutions to participate on a voluntary basis. About 200 institutions elect to respond. IPEDS data are available to the public through the College Navigator and IPEDS Web sites.

ED requested emergency clearance processing (approved in November 2015; OMB# 1850-0582 v.17), due to the Government Accounting Standards Board's (GASB) revision of their reporting standards that also impacts reporting of some of the institutions in IPEDS, to revise the 2015-16 IPEDS Finance forms and continue the remaining parts of the 2015-16 IPEDS collection as previously approved (OMB# 1850-0582 v.13-15). As part of the emergency clearance, new screening question was added to the 2015-16 IPEDS Finance survey for institutions to indicate whether they have additional (or decreased) pension expense, additional pension liability (or assets), or additional deferral to report as a result of GASB Statement 68. For the institutions that answer “yes”, four fields have been added to collect the amounts of the additional (or decreased) expense, additional liability (or assets), deferred inflows of resources, and deferred outflows of resources. This submission extends the public comment period under regular approval process (with a 60-day followed by a 30-day public comment periods) on the revisions approved under the emergency clearance process (OMB# 1850-0582 v.17).

Dated: January 7, 2016.
Kate Mullan,
Acting Director, Information Collection Clearance Division, Office of the Chief Privacy Officer, Office of Management.

[FR Doc. 2016-00391 Filed 1-11-16; 8:45 am]

BILLING CODE 4000-01-P